DEPARTMENT OF COMMERCE

National Oceanic and Atmospheric Administration

50 CFR Part 679

[Docket No. 200423-0120]

RIN 0648-XY201

Fisheries of the Exclusive Economic Zone Off Alaska; Gulf of Alaska; Final 2020 and 2021 Harvest Specifications for Groundfish; Correction

AGENCY: National Marine Fisheries Service (NMFS), National Oceanic and Atmospheric Administration (NOAA), Commerce.

ACTION: Final rule; correction.

SUMMARY: The National Marine Fisheries Service is correcting a final rule that published on March 10, 2020, implementing the final 2020 and 2021 harvest specifications and prohibited species catch allowances for the groundfish fishery of the Gulf of Alaska. One table in the document contains errors associated with deep-water flatfish, and another table contains an error associated with northern rockfish. These corrections are necessary to provide the correct information about the amount of deep-water flatfish and northern rockfish available for commercial harvest in 2020, thus allowing commercial fishermen to maximize their economic opportunities in this fishery. This correction also is necessary to comport with the requirements of the Fishery Management Plan for Groundfish of the Gulf of Alaska.

DATES: Effective May 18, 2020.

FOR FURTHER INFORMATION CONTACT: Obren Davis, 907-586-7228.

SUPPLEMENTARY INFORMATION:

Need for Correction

The National Marine Fisheries Service (NMFS) published the Gulf of Alaska (GOA) final 2020 and 2021 harvest specifications in the Federal Register on March 10, 2020 (85 FR 13802). The harvest specifications were effective March 10, 2020. NMFS has identified two tables in that final rule that contain errors. First, a table (Table 18) providing information about the 2020 groundfish sideboard limits for non-exempt American Fisheries Act (AFA) catcher vessels contains errors associated with the deep-water flatfish sideboard limits in the Central and Eastern Regulatory Areas of the GOA. Second, a table (Table 23) providing information about 2020 Rockfish Program (RP) sideboard limits for catcher/processors contains one error associated with the northern rockfish sideboard limit in the Western Regulatory Area of the GOA. These tables, associated errors, and corrections to each table are discussed below.

Corrections to Table 18: Non-Exempt AFA Catcher Vessel Sideboard Limits

An explanation of AFA sideboard limits is contained in the final rule implementing the 2020 and 2021 harvest specifications (85 FR 13802, March 10, 2020) and is not repeated here. In conjunction with calculating the non-exempt AFA catcher vessel sideboard limits contained in Table 18 of the final 2020 and 2021 harvest specifications, NMFS also incorporated changes to the specification and management of non-exempt AFA catcher vessel sideboard limits that were implemented in a final rule published in 2019 (84 FR 2723, February 8, 2019). That particular final rule established regulations to prohibit directed fishing for specific groundfish species or species groups subject to sideboard limits in regulations (§ 679.20(d)(1)(iv)(D) and Table 56 to 50 CFR part 679), which effectively reduced the number of non-exempt AFA catcher vessel groundfish sideboard limits that must be annually specified. However, NMFS must continue to specify some non-exempt AFA catcher vessel sideboard limits for certain groundfish species or species groups.

In the final harvest specifications, the table (Table 18) associated with the 2020 non-exempt AFA catcher vessel sideboard limits provides information about species, apportionments by gear and season, areas, ratios used to calculate sideboard limits, total allowable catch (TAC) limits, and final 2020 sideboard limits. This table was revised and condensed from an equivalent table published in 2019 to remove species or species groups for which directed fishing is now prohibited in regulation, following the implementation of a final rule (84 FR 2723, February 8, 2019) that, in part, revised the specification and management of non-exempt AFA catcher vessel sideboard limits. In Table 18 on page 13821 of the harvest specifications published in the Federal Register (85 FR 13802, March 10, 2020), NMFS inadvertently included a deep-water species sideboard limit for the Western GOA and omitted a deep-water species sideboard limit for the Eastern GOA. Table 18 also includes the incorrect ratio used for calculating the sideboard limit for deep-water flatfish for the Central GOA. The correct ratios for calculating sideboard limits for deep-water flatfish for the Central and Eastern Regulatory Areas of the GOA are .0647 and .0128, respectively. The correct 2020 deep-water flatfish TACs for the Central and Eastern Regulatory Areas of the GOA are 1,948 metric tons (mt) and 3,856 mt, respectively. The correct 2020 deep-water flatfish sideboard limits for the Central and Eastern Regulatory Areas of the GOA are 126 mt and 49 mt, respectively. This action will revise columns 3, 4, 5, and 6 of Table 18 to incorporate the correct amounts for ratios for calculating sideboard limits, TACs, and sideboard limits for the 2020 deep-water flatfish in the Central Regulatory Area of the GOA (C) and the Eastern Regulatory Area of the GOA (E).

Correction to Table 23: RP Sideboard Limits for the Western GOA and West Yakutat District for the Catcher/Processor Sector

A table (Table 23) providing information about the final 2020 RP sideboard limits for the catcher/processor sector by area and fishery contains one error associated with the northern rockfish sideboard limit for the Western Regulatory Area of the GOA (or Western GOA). In Table 23 on page 13824 of the harvest specifications published in the Federal Register (85 FR 13802, March 10, 2020), NMFS inadvertently used an incorrect value for the northern rockfish sideboard limit for the Western Regulatory Area of the GOA. The correct 2020 northern rockfish sideboard limit for catcher/processors for the Western Regulatory Area of the GOA is 842 mt. This action will revise column 5 of Table 23 to incorporate the correct amount for the 2020 RP northern rockfish sideboard limit for the catcher/processor sector for the Western Regulatory Area of the GOA (or Western GOA).

Classification

The Assistant Administrator for Fisheries, NOAA (AA), finds good cause to waive the requirement to provide prior notice and opportunity for public comment pursuant to the authority set forth at 5 U.S.C. 553(b)(B), as such requirement is unnecessary and contrary to the public interest. This correcting amendment makes changes to correct mis-specified 2020 deep-water flatfish sideboard limits for non-exempt AFA catcher vessels in Table 18 and the 2020 RP northern rockfish sideboard limit for catcher/processors in Table 23, as described above, and does not change operating practices in the fisheries. This correcting action is consistent with the harvest specifications recommended by the North Pacific Fishery Management Council in December 2019, and ensures that the groundfish sideboard limits that the fishing industry expected to be available in 2020 are correct. If this correction is delayed to allow for notice and comment, it would result in confusion for participants in the fisheries, given that the final rule implementing the 2020 and 2021 harvest specifications already is effective. The correct 2020 deep-water flatfish sideboard limits for non-exempt AFA catcher vessels for the Central and Eastern Regulatory Areas of the GOA are different from the incorrectly specified sideboard limits for these two management areas. The correct 2020 RP northern rockfish sideboard limit for catcher/processors is less than the incorrectly specified sideboard limit for the Western Regulatory Area of the GOA (or Western GOA). Without this correction, commercial fishermen may believe that there are different amounts of sideboard limits available for harvest in 2020 than are actually available, to their economic detriment. In addition, the public was already provided with notice and opportunity to comment during the public comment period for the proposed harvest specifications (84 FR 66109, December 3, 2019), so additional opportunity for public comment at this point would not be meaningful. Therefore, in order to avoid any negative consequences that could result from this correction, the AA finds good cause to waive the requirement to provide prior notice and opportunity for public comment.

For the reasons above, the AA also finds good cause under 5 U.S.C. 553(d)(3) to waive the 30-day delay in effective date and make this rule effective immediately upon publication.

Corrections

In the final rule document, published on March 10, 2020 (85 FR 13802), the following corrections are made:

1. On page 13821, Table 18 is corrected to read as follows:

Table 18—Final 2020 GOA Non-Exempt American Fisheries Act Catcher Vessel (CV) Groundfish Sideboard Limits
[Values are rounded to the nearest metric ton]
Species | Apportionments by season/gear | Area/component | Ratio of 1995-1997 non-exempt AFA CV catch to 1995-1997 TAC | Final 2020 TACs ³ | Final 2020 non-exempt AFA CV sideboard limit
Pollock | A Season: January 20-March 10 | Shumagin (610) Chirikof (620) Kodiak (630) | 0.6047 0.1167 0.2028 | 517 18,757 5,783 | 313 2,189 1,173
| B Season: March 10-May 31 | Shumagin (610) Chirikof (620) Kodiak (630) | 0.6047 0.1167 0.2028 | 517 22,222 2,318 | 313 2,593 470
| C Season: August 25-October 1 | Shumagin (610) Chirikof (620) Kodiak (630) | 0.6047 0.1167 0.2028 | 9,070 6,739 9,248 | 5,485 786 1,875
| D Season: October 1-November 1 | Shumagin (610) Chirikof (620) Kodiak (630) | 0.6047 0.1167 0.2028 | 9,070 6,739 9,248 | 5,485 786 1,875
| Annual | WYK (640) | 0.3495 | 5,554 | 1,941
|  | SEO (650) | 0.3495 | 10,148 | 3,547
Pacific cod | A Season: ¹ January 1-June 10 | W C | 0.1331 0.0692 | 1,246 2,284 | 166 158
| B Season: ² September 1-December 31 | W C | 0.1331 0.0692 | 830 1,522 | 111 105
Flatfish, shallow-water | Annual | W | 0.0156 | 13,250 | 207
|  | C | 0.0587 | 27,732 | 1,628
Flatfish, deep-water | Annual | C | 0.0647 | 1,948 | 126
|  | E | 0.0128 | 3,856 | 49
Rex sole | Annual | C | 0.0384 | 8,579 | 329
Arrowtooth flounder | Annual | C | 0.0280 | 68,669 | 1,923
Flathead sole | Annual | C | 0.0213 | 15,400 | 328
Pacific ocean perch | Annual | C | 0.0748 | 23,678 | 1,771
|  | E | 0.0466 | 6,123 | 285
Northern rockfish | Annual | C | 0.0277 | 3,178 | 88
¹ The Pacific cod A season for trawl gear does not open until January 20.
² The Pacific cod B season for trawl gear closes November 1.
³ The Western and Central GOA and WYK District area apportionments of pollock are considered ACLs.

2. On page 13824, Table 23 is corrected to read as follows:

Table 23—Final 2020 Rockfish Program Sideboard Limits for the Western GOA and West Yakutat District by Fishery for the Catcher/Processor Sector
[Values are rounded to the nearest metric ton]
Area | Fishery | C/P sector (% of TAC) | Final 2020 TACs | Final 2020 C/P limit
Western GOA | Dusky rockfish Pacific ocean perch | 72.3 50.6 | 776 1,437 | 561 727
| Northern rockfish | 74.3 | 1,133 | 842
West Yakutat District | Dusky rockfish Pacific ocean perch | Confidential ¹ Confidential ¹ | 115 1,470 | Confidential ¹ Confidential ¹
¹ Not released due to confidentiality requirements associated with fish ticket data, as established by NMFS and the State of Alaska.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: April 24, 2020.
Samuel D. Rauch, III,
Deputy Assistant Administrator for Regulatory Programs, National Marine Fisheries Service.

[FR Doc. 2020-09084 Filed 5-15-20; 8:45 am]

BILLING CODE 3510-22-P